DEPARTMENT OF ENERGY

Federal Energy Regulatory Commission

Notice of Applications for Non-Project Use of Project Lands and Soliciting Comments, Motions To Intervene, and Protests

January 6, 2004.

Take notice that the following applications have been filed with the Commission and are available for public inspection:

a. Application Types: Non-project use of project lands.

b. Project Nos: 2210-095, 2210-096 and 2210-097.

c. Dates Filed: P-2210-095 was filed on November 10, 2003, P-2210-096 was filed on November 17, 2003, and P-2210-097 was filed on November 13, 2003.

d. Applicant: Appalachian Power Company (APC).

e. Name of Project: Smith Mountain Pumped Storage Project.

f. Location: The project is located on the Roanoke River, in Bedford, Pittsylvania, Franklin, and Roanoke Counties, Virginia.

g. Filed Pursuant to: Federal Power Act, 16 U.S.C. 791(a) 825(r) and §§ 799 and 801.

h. Applicant Contact: Teresa P. Rogers, Hydro Generation Department, American Electric Power, P.O. Box 2021, Roanoke, VA 24022-2121, (540) 985-2441.

i. FERC Contact: Any questions on this notice should be addressed to Mrs. Heather Campbell at (202) 502-6182, or e-mail address: heather.campbell@ferc.gov.

j. Deadline for Filing Comments and or Motions: February 6, 2004.

All documents (original and eight copies) should be filed with: Ms. Magalie R. Salas, Secretary, Federal Energy Regulatory Commission, 888 First Street, NE., Washington, DC 20426. Please include the project number (P-2210-095, -096, or -097) on any comments or motions filed. Comments, protests, and interventions may be filed electronically via the internet in lieu of paper. See, 18 CFR 385.2001(a)(1)(iii) and the instructions on the Commission's Web site at http://www.ferc.gov under the “e-Filing” link. The Commission strongly encourages e-filings.

k. Description of Request: APC is requesting approval of non-project uses of project lands for the proposals described below.

P-2210-095—Request for approval for Resource Partnership L.L.C to install and operate within the project boundary 15 docks with a total of 62 covered stationary slips and 30 floaters. The docks and associated facilities will serve multi-family dwellings and single family homes. Construction would take place along the Blackwater River portion of the project at an area known as the Cottages at Contentment Island. There is no dredging associated with the proposal.

P-2210-096—Request for approval for Bayview Holdings L.L.C. to install and operate three docks with a total of 31 covered stationery slips. Construction would take place along the Roanoke River at an area identified as Emerald Bay. No dredging will be needed.

P-2210-097—Request for approval for Harbor Ridge Homeowners Association to install and operate an additional 7 covered stationery slips to a dock that has two slips. These slips, along with an existing dock with 15 slips, will serve multi-family type dwellings. Construction would take place along the Roanoke River at a site known as Harbor Ridge. No dredging is proposed.

l. Location of the Applications: These filings are available for review at the Commission in the Public Reference Room, 888 First Street, NE., Room 2A, Washington, DC 20426 or may be viewed on the Commission's Web site at http://www.ferc.gov using the “e-library” link. Enter the docket number excluding the last three digits in the docket number field to access the document. For assistance, call toll-free 1-866-208-3676 or e-mail FERCOnlineSupport@ferc.gov. For TTY, call (202) 502-8659. A copy is also available for inspection and reproduction at the address in item h. above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, State, and local agencies are invited to file comments on the described applications. Copies of the applications may be obtained by agencies directly from the Applicant. If an agency does not file comments within the time specified for filing comments, it will be presumed to have no comments. One copy of an agency's comments must also be sent to the Applicant's representatives.

Magalie R. Salas,
Secretary.

[FR Doc. E4-38 Filed 1-9-04; 8:45 am]

BILLING CODE 6717-01-P